DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On June 20, 2024, OFAC determined that the property and interests in property subject to U.S. jurisdiction of the following persons are blocked under the relevant sanctions authority listed below.

Individuals

1. ARZATE GOMEZ, Kevin, Mexico; DOB 23 Jun 1992; POB Guerrero, Mexico; nationality Mexico; Gender Male; C.U.R.P. AAGK920623MGRRMV09 (Mexico) (individual) [ILLICIT-DRUGS-EO14059]. Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. CAMACHO GOICOCHEA, Euclides (a.k.a. “Quilles”), Mexico; DOB 08 Aug 1972; POB Guerrero, Mexico; nationality Mexico; citizen Mexico; Gender Male; C.U.R.P. CAGE720808HGRMCC04 (Mexico) (individual) [ILLICIT-DRUGS-EO14059]. Designated pursuant to section 1(a)(i) of E.O. 14059 for having engaged in, or attempted to engage in, activities or transactions that have materially contributed to, or pose a significant risk of materially contributing to, the international proliferation of illicit drugs or their means of production.

3. MALDONADO BUSTOS, Rodolfo, Mexico; DOB 26 Jan 1965; POB Guerrero, Mexico; nationality Mexico; Gender Male; C.U.R.P. MABR650126HGRLSD08 (Mexico) (individual) [ILLICIT-DRUGS-EO14059]. Designated pursuant to section 1(a)(i) of E.O. 14059 for having engaged in, or attempted to engage in, activities or transactions that have materially contributed to, or pose a significant risk of materially contributing to, the international proliferation of illicit drugs or their means of production.

4. DURAN ALVAREZ, David, Mexico; DOB 10 Mar 1984; POB Queretaro, Mexico; nationality Mexico; Gender Male; C.U.R.P. DUAD840310HQTRLV02 (Mexico) (individual) [ILLICIT-DRUGS-EO14059] (Linked To: LA NUEVA FAMILIA MICHOACANA).

Designated pursuant to section 1(b)(iii) of E.O. 14059 for being owned, controlled, or directed by, or having acted or purported to act for or on behalf of, directly or indirectly, LA NUEVA FAMILIA MICHOACANA, a person sanctioned pursuant to E.O. 14059.

5. LOPEZ HERNANDEZ, Josue (a.k.a. “El Colima”), Mexico; DOB 20 Dec 1976; POB Guerrero, Mexico; nationality Mexico; Gender Male; C.U.R.P. LOHJ761220HGRPRS05 (Mexico) (individual) [ILLICIT-DRUGS-EO14059] (Linked To: LA NUEVA FAMILIA MICHOACANA). Designated pursuant to section 1(b)(iii) of E.O. 14059 for being owned, controlled, or directed by, or having acted or purported to act for or on behalf of, directly or indirectly, LA NUEVA FAMILIA MICHOACANA, a person sanctioned pursuant to E.O. 14059.

6. OCHOA LAGUNES, Lucio (a.k.a. “El Borrego”), Mexico; DOB 15 Dec 1975; POB Veracruz, Mexico; nationality Mexico; Gender Male; C.U.R.P. OOLL751215HVZCGC06 (Mexico) (individual) [ILLICIT-DRUGS-EO14059] (Linked To: LA NUEVA FAMILIA MICHOACANA). Designated pursuant to section 1(b)(iii) of E.O. 14059 for being owned, controlled, or directed by, or having acted or purported to act for or on behalf of, directly or indirectly, LA NUEVA FAMILIA MICHOACANA, a person sanctioned pursuant to E.O. 14059.

7. RAMIREZ CARRERA, Josue, Mexico; DOB 20 Sep 1979; POB Mexico City, Mexico; nationality Mexico; Gender Male; C.U.R.P. RACJ790920HDFMRS09 (Mexico) (individual) [ILLICIT-DRUGS-EO14059] (Linked To: LA NUEVA FAMILIA MICHOACANA). Designated pursuant to section 1(b)(iii) of E.O. 14059 for being owned, controlled, or directed by, or having acted or purported to act for or on behalf of, directly or indirectly, LA NUEVA FAMILIA MICHOACANA, a person sanctioned pursuant to E.O. 14059.

8. TABARES MARTINEZ, Uriel (a.k.a. “El Medico”), Mexico; DOB 16 Apr 1979; POB Guerrero, Mexico; nationality Mexico; Gender Male; C.U.R.P. TAMU790416HGRBRR03 (Mexico) (individual) [ILLICIT-DRUGS-EO14059] (Linked To: LA NUEVA FAMILIA MICHOACANA).

Designated pursuant to section 1(b)(iii) of E.O. 14059 for being owned, controlled, or directed by, or having acted or purported to act for or on behalf of, directly or indirectly, LA NUEVA FAMILIA MICHOACANA, a person sanctioned pursuant to E.O. 14059.

Dated: June 20, 2024.
Lisa M. Palluconi,
Deputy Director, Office of Foreign Assets Control, U.S. Department of the Treasury.

[FR Doc. 2024-13888 Filed 6-24-24; 8:45 am]

BILLING CODE 4810-AL-P